DEPARTMENT OF COMMERCE

National Oceanic and Atmospheric Administration

[RTID 0648-XA936]

Atlantic Highly Migratory Species; Atlantic Shark Fishery Review

AGENCY: National Marine Fisheries Service (NMFS), National Oceanic and Atmospheric Administration (NOAA), Commerce.

ACTION: Notice of availability of the Atlantic shark fishery review (SHARE) document; request for comments.

SUMMARY: NMFS announces the availability of the draft SHARE document. As part of the overall review of the current state of the shark fishery, NMFS examined all aspects of commercial and recreational shark fisheries conservation and management, shark depredation, and additional factors affecting the shark fishery. As a comprehensive review of the shark fishery, the SHARE document identifies areas of success and concerns in the fishery and identifies potential future revisions to regulations and management measures. NMFS anticipates that revisions to the regulations and/or management measures would occur via future rulemaking and would include appropriate opportunity for public comment.

DATES: Written comments must be received by January 3, 2022. NMFS will hold one public webinar, at which public comments will be accepted, on December 8, 2021. For specific dates and times, see the SUPPLEMENTARY INFORMATION section of this document.

ADDRESSES: Electronic copies of this document may be obtained on the internet at: https://www.fisheries.noaa.gov/action/atlantic-shark-fishery-review-share.

You may submit comments on this document, identified by NOAA-NMFS-2021-0027, via the Federal e-Rulemaking Portal. Go to www.regulations.gov, enter NOAA-NMFS-2021-0027 into the search box, click the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Guy DuBeck (Guy.DuBeck@noaa.gov) or Karyl Brewster-Geisz (Karyl.Brewster-Geisz@noaa.gov) by email, or by phone at (301) 427-8503.

SUPPLEMENTARY INFORMATION: Under the Magnuson-Stevens Fishery Conservation and Management Act (Magnuson-Stevens Act), NMFS is responsible for the sustainable management of Atlantic Highly Migratory Species (HMS) (16 U.S.C. 1852(a)(3)) and must comply with all applicable provisions of the Act when implementing conservation and management measures for shark stocks and fisheries. Under the Magnuson-Stevens Act, conservation and management measures must prevent overfishing while achieving, on a continuing basis, the optimum yield from each fishery (16 U.S.C. 1851(a)(1)). Where a fishery is determined to be in or approaching an overfished condition, NMFS must adopt conservation and management measures to prevent or end overfishing and rebuild the fishery. (16 U.S.C. 1853(a)(10); 1854(e)). In addition, NMFS must, among other things, comply with the Magnuson-Stevens Act's ten National Standards, including a requirement to use the best scientific information available as well as to consider potential impacts on residents of different States, efficiency, costs, fishing communities, bycatch, and safety at sea (16 U.S.C. 1851 (a)(1-10)). Internationally, the International Commission for the Conservation of Atlantic Tunas (ICCAT) has issued recommendations for the conservation of shark species caught in association with ICCAT fisheries, while the Convention on International Trade in Endangered Species of Wild Fauna and Flora (CITES) has passed measures that place requirements or restrictions on the trade of some shark species and shark fins. The purpose of the SHARE document is to analyze trends within the commercial and recreational shark fisheries to identify main areas of success and concerns with conservation and management measures and find ways to improve management of the shark fishery.

Atlantic shark fisheries have been federally managed since 1993. Unlike stock assessments, which focus on abundance of stocks and their status, SHARE focuses on the overall state of fishery to assist in determining next steps for management. NMFS began this review after noticing certain trends in the fishery. In the commercial fishery, trends include reduced landings, a decrease in active vessels, and an increase in shark discards. In the recreational fishery, trends include an increase in catch and release rates, an increase in effort by state-water or shore-based fishermen, and a decrease in targeted pelagic shark trips. Through the SHARE process, NMFS is exploring different aspects of the Atlantic shark fisheries to improve stability and resiliency within the fisheries and has identified the following objectives:

• Review the current state of the Atlantic shark fishery;

• Identify areas of success in the fishery;

• Identify areas of concern in the fishery; and

• Identify ways to improve the fishery and potential future shark management actions.

As part of SHARE, NMFS reviewed commercial shark fishery vessel permits, trips targeting or retaining sharks, shark landings, dealer permits, and markets. These data indicate that catch of available quota and participation in the commercial shark fishery has dramatically declined from historical levels. In the recreational shark fishery, NMFS reviewed the recent permits with shark endorsements, fishing effort, survey data, and tournament landings. Shark depredation, which occurs when a shark eats or preys upon fish that are caught on fishing gear, has been a growing concern in a wide variety of commercial and recreational fisheries. While the number of reports of depredation have increased, the underlying cause of the increase is uncertain—it could be due to an increase in the number of sharks as stocks rebuild; a learned behavior by sharks as they recognize motors, fishing techniques, or shark feeding locations as a source of food (this learned behavior is found in other animals such as marine mammals); an increase in the number of people using social media to report the depredation; or any combination of the above. Lastly, in the SHARE document, NMFS analyzed additional factors beyond the Federal shark fishery including other fisheries, state shark fin sale prohibitions, and binding international recommendations.

The SHARE document as a whole provides a comprehensive review of the current state of the Atlantic shark fishery, identifies areas of success and concern, and identifies regulations and management measures for potential future revision. Overall, this review has found that NMFS is sustainably managing shark stocks; however, catch and participation in the commercial shark fishery is in decline. This decline is happening despite fishermen having available quotas for many species, and, in most regions, an open season year-round. The review has also identified a need in the recreational fishery to improve species identification that could improve shark fishery data, thus improving management overall. Additionally, it is likely that other fisheries, state shark fin sale prohibitions, and binding international recommendations have directly and indirectly affected fishing effort and landings from 2014 through 2019. Possible changes that could increase the productivity of the commercial shark fishery while remaining consistent with the Magnuson-Stevens Act and the 2006 Consolidated Atlantic HMS Fishery Management Plan and its amendments could include modifications to:

• Vessel permit structure, including shifting incidental permits to open-access permits;

• Commercial vessel retention limits for large coastal shark, blacknose, and other shark management groups;

• Regional and sub-regional quotas to better match regional expectations and opportunities;

• Recreational size and bag limits; and,

• Reporting mechanisms to enhance data collection of recreational shark species and shark depredation events.

NMFS anticipates that revisions to the above management measures would occur via future rulemaking to modify HMS regulations, with appropriate opportunity for public comment. Regardless of timing, NMFS believes changes to the shark fishery are warranted to improve the overall health of the fishery and shark stocks.

Public Webinar

NMFS will consider public comments before finalizing SHARE. Comments on the draft SHARE document may be submitted via www.regulations.gov, and comments may also be submitted at the public hearings. NMFS solicits comments on this draft document by January 3, 2022. During this period, NMFS will hold one public webinar on December 8, 2021 (Table 1). Requests for sign language interpretation or other auxiliary aids should be directed to Guy DuBeck at guy.dubeck@noaa.gov or 301-427-8503, at least 7 days prior to the meeting.

Table 1—Date and Time of Upcoming Webinar
Venue | Date | Time | Instructions
Webinar | December 21, 2021 | 2-4 p.m | Link: https://noaanmfs-meets.webex.com/noaanmfs-meets/j.php?MTID=m62c9fc645e02237b23d3a83349d8c1b8. Meeting number: 27634061994. Password: A26xykq3q3a. Join by phone: 1-415-527-5035. Access code: 27634061994.

The public is reminded that NMFS expects participants at the public webinar to conduct themselves appropriately. At the beginning of the webinar, the moderator will explain how the webinar will be conducted and how and when participants can provide comments. NMFS representative(s) will structure the webinar so that all members of the public will be able to comment, if they so choose, regardless of the controversial nature of the subject(s). Participants are expected to respect the ground rules, and those that do not may be asked to leave the webinar.

Authority: 16 U.S.C. 1801 et seq.

Dated: October 20, 2021.
Jennifer M. Wallace,
Acting Director, Office of Sustainable Fisheries, National Marine Fisheries Service.

[FR Doc. 2021-23215 Filed 10-22-21; 8:45 am]

BILLING CODE 3510-22-P